DEPARTMENT OF AGRICULTURE

Animal and Plant Health Inspection Service

[Docket No. APHIS-2010-0017]

Notice of Revision and Request for Extension of Approval of an Information Collection; Cooperative Agricultural Pest Survey

AGENCY: Animal and Plant Health Inspection Service, USDA.

ACTION: Revision and extension of approval of an information collection; comment request.

SUMMARY: In accordance with the Paperwork Reduction Act of 1995, this notice announces the Animal and Plant Health Inspection Service’s intention to revise an information collection associated with the Cooperative Agricultural Pest Survey and to request extension of approval of the information collection.

DATES: We will consider all comments that we receive on or before July 2, 2010.

ADDRESSES: You may submit comments by either of the following methods:

• Federal eRulemaking Portal: Go to (http://www.regulations.gov/fdmspublic/component/main?main=DocketDetail&d=APHIS-2010-0017) to submit or view comments and to view supporting and related materials available electronically.

• Postal Mail/Commercial Delivery: Please send two copies of your comment to Docket No. APHIS-2010-0017, Regulatory Analysis and Development, PPD, APHIS, Station 3A-03.8, 4700 River Road Unit 118, Riverdale, MD 20737-1238. Please state that your comment refers to Docket No. APHIS-2010-0017.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: For information on the Cooperative Agricultural Pest Survey, contact Dr. John Bowers, National Survey Coordinator, Emergency and Domestic Programs, PPQ, APHIS, 4700 River Road Unit 26, Riverdale, MD 20737; (301) 734-3658. For copies of more detailed information on the information collection, contact Mrs. Celeste Sickles, APHIS’ Information Collection Coordinator, at (301) 851-2908.

SUPPLEMENTARY INFORMATION:

Title: Cooperative Agricultural Pest Survey.

OMB Number: 0579-0010.

Type of Request: Revision and extension of approval of an information collection.

Abstract: Under the Plant Protection Act (7 U.S.C. 7701 et seq.), the Secretary of Agriculture is authorized, either independently or in cooperation with States, to carry out operations or measures to detect, eradicate, suppress, control, prevent, or retard the spread of plant pests and noxious weeds that are new to or not widely distributed within the United States. This authority has been delegated to the Administrator, Animal and Plant Health Inspection Service (APHIS).

To carry out this mission, the Plant Protection and Quarantine (PPQ) program, APHIS, has joined forces with the States and other agencies to create a program called the Cooperative Agricultural Pest Survey (CAPS). The CAPS program coordinates these efforts through cooperative agreements with the States and other agencies to collect and manage data on plant pests, noxious weeds, and biological control agents, which may be used to control plant pests or noxious weeds.

This program allows the States and PPQ to conduct surveys to detect and measure the presence of exotic plant pests and noxious weeds and to enter survey data into a national computer-based system known as the National Agricultural Pest Information System (NAPIS). This, in turn, allows APHIS to obtain a more comprehensive picture of plant pest and noxious weed conditions in the United States as well as detect, in collaboration with the National Plant Diagnostic Network and the U.S. Department of Agriculture’s National Institute of Food and Agriculture (NIFA), population trends in plant pests or noxious weeds that could indicate an agricultural bioterrorism act.

The information captured by CAPS and generated by NAPIS is used by States to predict potential plant pest and noxious weed situations in the United States and by Federal interests (e.g., PPQ and NIFA) to promptly detect and respond to the occurrence of new plant pests or noxious weeds and to provide documentation on plant pests and noxious weeds to facilitate and record the location of those incursions that could directly hinder the export of U.S. farm commodities. The system also provides data management support for PPQ programs, such as imported fire ant, sudden oak death, and gypsy moth.

The CAPS program involves certain information collection activities, including cooperative agreements, pest detection surveys, and the Specimens for Determination Form (PPQ Form 391).

We are asking the Office of Management and Budget (OMB) to approve our use of these information collection activities for an additional 3 years.

We are revising the title of the current collection from “National Agricultural Pest Information System” to “Cooperative Agricultural Pest Survey” to convey that the activity components comprise the CAPS program rather than the computer-based NAPIS.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.2376543 hours per response.

Respondents: State Cooperators and universities participating in the CAPS program.

Estimated annual number of respondents: 108.

Estimated annual number of responses per respondent: 135.

Estimated annual number of responses: 14,580.

Estimated total annual burden on respondents: 3,465 hours. (Due to averaging, the total annual burden hours may not equal the product of the annual number of responses multiplied by the reporting burden per response.)

All responses to this notice will be summarized and included in the request for OMB approval. All comments will also become a matter of public record.

Done in Washington, DC, this 27th day of April 2010.

Kevin Shea
Acting Administrator, Animal and Plant Health Inspection Service.

[FR Doc. 2010-10279 Filed 4-30-10; 8:45 am]

BILLING CODE: 3410-34-S